DEPARTMENT OF THE TREASURY

Senior Executive Service; Departmental Performance Review Board

AGENCY: Treasury Department.

ACTION: Notice of members of the Departmental Performance Review Board (PRB).

SUMMARY: Pursuant to 5 U.S.C. 4314(c)(4), this notice announces the appointment of members of the Departmental PRB. The purpose of this PRB is to review and make recommendations concerning proposed performance appraisals, ratings, bonuses and other appropriate personnel actions for incumbents of SES positions for which the Secretary or Deputy Secretary is the appointing authority. These positions include SES bureau heads, deputy bureau heads and certain other positions. The Board will perform PRB functions for other key bureau positions if requested.

Composition of Departmental PRB: The Board shall consist of at least three members. In the case of an appraisal of a career appointee, more than half the members shall consist of career appointees. The names and titles of the PRB members are as follows:

Peter B. McCarthy, Assistant Secretary for Management and Chief Financial Officer

Clay Lowery, Assistant Secretary for International Affairs

Eric Solomon, Assistant Secretary for Tax Policy

Kenneth E. Carfine, Fiscal Assistant Secretary

Rochelle F. Granat, Deputy Assistant Secretary for Human Resources and Chief Human Capital Officer

Charles R. Hastings, Deputy Chief Human Capital Officer

Linda E. Stiff, Deputy Commissioner, Services and Enforcement, Internal Revenue Service

John J. Manfreda, Administrator, Alcohol and Tobacco Tax and Trade Bureau

Vicky I. McDowell, Deputy Administrator, Alcohol and Tobacco Tax and Trade Bureau

James H. Freis, Jr., Director, Financial Crimes Enforcement Network

William F. Baity, Deputy Director, Financial Crimes Enforcement Network

Judith R. Tillman, Commissioner, Financial Management Service

David A. Lebryk, Deputy Commissioner, Financial Management Service

Frederick Van Zeck, Commissioner, Bureau of the Public Debt

Nancy C. Fleetwood, Deputy Commissioner, Bureau of the Public Debt

Larry R. Felix, Director, Bureau of Engraving and Printing

Pamela J. Gardiner, Associate Director for Management, Bureau of Engraving and Printing

Andrew D. Brunhart, Deputy Director, United States Mint

DATES: Membership is effective on the date of this notice.

FOR FURTHER INFORMATION CONTACT: Catherine R. Schmader, Executive Resources Program Manager, 1500 Pennsylvania Avenue, NW., ATTN: 1750 Pennsylvania Avenue, NW., Suite 8100, Washington, DC 20220, Telephone: (202) 622-0396.

This notice does not meet the Department's criteria for significant regulations.

Dated: September 8, 2008.
Charles R. Hastings,
Deputy Chief Human Capital Officer.

[FR Doc. E8-21656 Filed 9-17-08; 8:45 am]

BILLING CODE 4811-42-P